ENVIRONMENTAL PROTECTION AGENCY

[EPA-HQ-OCFO-2024-0072; FRL-12560-01-OMS]

Agency Information Collection Activities; Submission to the Office of Management and Budget for Review and Approval; Comment Request; Environmental Justice Collaborative Problem Solving and Government to Government Programs: Progress and Final Reporting Information Collections (New)

AGENCY: Environmental Protection Agency (EPA).

ACTION: Notice.

SUMMARY: The Environmental Protection Agency (EPA) has submitted an information collection request (ICR), Environmental Justice CPS and G2G Programs: Progress and Final Reporting Information Collections (EPA ICR Number 2807.01, OMB Control Number 2035-NEW) to the Office of Management and Budget (OMB) for review and approval in accordance with the Paperwork Reduction Act. This is a request for approval of a new collection. Public comments were previously requested via the Federal Register on February 21, 2024 during a 60-day comment period. This notice allows for an additional 30 days for public comments.

DATES: Comments may be submitted on or before February 18, 2025.

ADDRESSES: Submit your comments, referencing Docket ID Number EPA-HQ-OEJECR-2023-0531, to EPA online using www.regulations.gov (our preferred method), by email to Docket_OMS@epa.gov, or by mail to: EPA Docket Center, Environmental Protection Agency, Mail Code 28221T, 1200 Pennsylvania Ave. NW, Washington, DC 20460.

EPA's policy is that all comments received will be included in the public docket without change including any personal information provided, unless the comment includes profanity, threats, information claimed to be Confidential Business Information (CBI) or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Aarti Iyer, Office of the Chief Financial Officer, Environmental Protection Agency, 1200 Pennsylvania Ave. NW, Washington, DC 20460; email address: iyer.aarti@epa.gov; phone: 202-564-0214.

SUPPLEMENTARY INFORMATION: This is a request for approval of a new collection. An agency may not conduct or sponsor, and a person is not required to respond to, a collection of information unless it displays a currently valid OMB control number.

Public comments were previously requested via the Federal Register on February 21, 2024 during a 60-day comment period (89 FR 13079). This notice allows for an additional 30 days for public comments. Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit https://www.epa.gov/dockets.

Abstract: The U.S. Environmental Protection Agency (EPA) makes competitive financial assistance awards to support projects that tackle environmental, public health, and energy challenges across the country. This is accomplished by working directly with community-based organizations (CBOs) and state, local, territorial, and tribal governments that have strong ties to the communities in which they are working. EPA fosters a collaborative approach to tackling some of the most critical challenges in the most overburdened communities by encouraging projects that involve multiple stakeholders including States, local governments, and tribal governments. To help get resources and funding to underserved and overburdened communities EPA offers Environmental Justice Collaborative Problem Solving (EJCPS) and Environmental Justice Government to Government (EJG2G) cooperative agreement programs. With this Information Collection Request (ICR), EPA seeks authorization to collect post-award information in the form of semi-annual progress reports and final reports from each grantee to track their progress, with respect to effectiveness (e.g., the extent to which projects achieved their objectives, goals, and targets), efficiency (e.g., the extent to which projects delivered activities and outputs on schedule and within budget), and equity (e.g., the extent to which investments and benefits flowed to disadvantaged communities that are marginalized, underserved, and overburdened by pollution). Collection of this information enables EPA to assess and manage the EJCPS and EJG2G programs, which ensures responsible stewardship of public funds; rigorous evidence-based learning and improvement; and transparent accountability to the American public.

Form Numbers: None.

Respondents/affected entities: Recipients of financial assistance awards.

Respondent's obligation to respond: Mandatory for recipients of financial awards to obtain or retain a benefit (2 CFR parts 200 and 1500).

Estimated number of respondents: 217.

Frequency of response: Varies.

Total estimated burden: 17,360 hours (per year). Burden is defined at 5 CFR 1320.03(b).

Total estimated cost: $994,554 (per year), including $0 annualized capital or operation & maintenance costs.

Changes in the Estimates: This is a new collection, and so does not involve any program changes or burden adjustments.

Courtney Kerwin,
Director, Regulatory Support Division.

[FR Doc. 2025-01041 Filed 1-15-25; 8:45 am]

BILLING CODE 6560-50-P